SMALL BUSINESS ADMINISTRATION

Praesidian Capital Opportunity Fund III, LP; License No. 02/02-0647; Notice Seeking Exemption Under the Small Business Investment Act, Conflicts of Interest

Notice is hereby given that Praesidian Capital Opportunity Fund III, LP, 419 Park Avenue South, New York, NY 10016, a Federal Licensee under the Small Business Investment Act of 1958, as amended (“the Act”), in connection with the financing of a small concern, has sought an exemption under Section 312 of the Act and Section 107.730, Financings which Constitute Conflicts of Interest, of the Small Business Administration Rules and Regulations (13 CFR 107.730). Praesidian Capital Opportunity Fund III, LP proposes to provide debt and preferred equity financing to CB Restaurants, Inc. The financing is follow-on financing contemplated to fund working capital and capital expenditures.

The financing is brought within the purview of § 107.730(a)(1) of the Regulations because Praesidian Capital Opportunity Fund III-A, LP, Associate of Praesidian Capital Opportunity Fund III, LP, holds an ownership position in CB Restaurants, Inc. that exceeds 10%. Therefore the transaction is considered as providing financing to an Associate, requiring prior written exemption from the Small Business Administration.

Notice is hereby given that any interested person may submit written comments on the transaction within 15 days of the date of this publication to the Associate Administrator for Investment, U.S. Small Business Administration, 409 Third Street SW., Washington, DC 20416.

Dated: March 29, 2012.
Sean J. Greene,
Associate Administrator for Investment.

[FR Doc. 2012-8326 Filed 4-5-12; 8:45 am]

BILLING CODE P